DEPARTMENT OF ENERGY

Federal Energy Regulatory Commission

[Project No. 3442-028]

City of Nashua New Hampshire; Notice of Comment Period Extension

On November 13, 2018, the City of Nashua held a joint meeting with the pertinent agencies for the Mine Falls Hydroelectric Project No. 3442 (the project); setting January 14, 2019, as the end of the formal period to file comments and study requests on the application for relicensing for the project. Due to the funding lapse at certain federal agencies between December 22, 2018 and January 25, 2019, the Commission is extending the comment period until March 6, 2019.

Dated: February 11, 2019.
Kimberly D. Bose,
Secretary.

[FR Doc. 2019-02709 Filed 2-19-19; 8:45 am]

BILLING CODE 6717-01-P